DEPARTMENT OF TRANSPORTATION

Federal Railroad Administration

[Docket Number FRA-2008-0063]

Petition for Waiver of Compliance

Under part 211 of Title 49 Code of Federal Regulations (CFR), this document provides the public notice that on March 23, 2018, the Memphis Area Transit Authority (MATA) petitioned the Federal Railroad Administration (FRA) for a waiver of compliance from certain provisions of the Federal railroad safety regulations contained at Title 49 CFR. FRA assigned the petition Docket Number FRA-2008-0063.

In its petition, MATA seeks to extend the terms and conditions of its Shared Use waiver, originally granted by FRA's Railroad Safety Board (Board) on October 31, 2008, and extended in 2013. MATA seeks a permanent waiver of compliance from some sections of Title 49 of the CFR for operation of its vintage Riverfront Streetcar line, which features “limited connections” to the general railroad system, including a 1.5-mile shared corridor with the Canadian National Railway (CN) and Amtrak. This shared corridor includes a diamond at-grade rail crossing of the CN/Amtrak track by the Streetcar and 11 shared highway-rail grade crossings. All shared highway-rail at-grade crossings have signalized crossing protection. Also, the diamond at-grade rail crossing is fully interlocked and signaled. All maintenance of the right-of-way is performed by CN forces. MATA ceased operation of its streetcars in 2014 after two fires onboard its rolling stock. MATA hopes to reopen the Riverfront Streetcar line in summer 2018 with overhauled/rebuilt streetcars.

MATA again seeks partial relief from 49 CFR part 225, Railroad Accidents/Incidents: Reports Classification and Investigations, regarding employee injuries, because it already reports them to the Federal Transit Administration and the Occupational Safety and Health Administration.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by May 17, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2018-06629 Filed 3-30-18; 8:45 am]

BILLING CODE 4910-06-P